DEPARTMENT OF THE INTERIOR

Fish and Wildlife Service

[FW-HQ-FHC-2014-N019; FXFR133409NFHP0-134-FF09F1000]

Proposed Information Collection; National Fish Habitat Action Plan Project Funding Process

AGENCY: Fish and Wildlife Service, Interior.

ACTION: Notice; request for comments.

SUMMARY: We (U.S. Fish and Wildlife Service, Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by April 4, 2014.

ADDRESSES: Send your comments on the IC to the Service Information Collection Clearance Officer, U.S. Fish and Wildlife Service, MS 2042-PDM, 4401 North Fairfax Drive, Arlington, VA 22203 (mail); or hope_grey@fws.gov (email). Please include “1018-NFHAP” in the subject line of your comments.

FOR FURTHER INFORMATION CONTACT: To request additional information about this IC, contact Hope Grey at hope_grey@fws.gov (email) or 703-358-2482 (telephone).

SUPPLEMENTARY INFORMATION:

I. Abstract

We receive annual appropriations to implement the National Fish Habitat Action Plan. We use these funds to:

• Support our participation in the National Fish Habitat Board and activities of the Board.

• Support Action Plan coordination and leadership at the Regional level.

• Implement habitat-based cost-shared projects.

Funds used to implement habitat-based cost-shared projects (project funds) are subject to reallocation each year. The Director allocates the available project funding among Fish Habitat Partnerships (FHPs) consistent with the goals and strategies of the National Fish Habitat Board. In FY 2014, we will implement a competitive, performance-based process to allocate project funds. We will distribute project funds among FHPs in two categories: (1) Stable operational support and (2) competitive, performance-based funds to encourage strategic conservation delivery. To determine which projects receive funding, we will collect the following information:

Justification for Stable Operational Support ($75,000 per year). To be eligible to receive stable operational support, FHPs must submit a justification that provides an overview of all projects and activities over the previous 3 years and anticipated projects and activities over the next 3 years. The justification should concisely describe these projects and activities as well as how these projects and activities (both individually and collectively) have contributed, or are expected to contribute, to achieving FHP goals and leverage partner resources and capabilities.

Accomplishments Report and Work Plan. To compete for performance-based funds, FHPs must submit:

• Accomplishments Report that provides a detailed description of all projects and activities of the FHP over the previous 3 years.

• Work Plan consisting of a prioritized list of new or ongoing habitat projects over the next year. The work plan will include, but not be limited to, project title, funds requested, anticipated partner contributions, measurable goals and objectives, and proposed conservation actions that will produce desired conservation outcomes and achieve project goals and objectives.

Application. FHPs will solicit proposals for Service funding. Applicants must submit an application that describes in substantial detail project locations, benefits, funding, and other characteristics.

Performance and Financial Reports. Persons or entities receiving project funding must submit annual performance and financial reports that contain information necessary for us to track costs and accomplishments. Performance reports will include:

• A comparison of actual accomplishments to the goals and objectives established for the reporting period, the results/findings, or both;

• If the goals and objectives were not met, the reasons why, including analysis and explanation of cost overruns or high unit costs compared to the benefit received to reach an objective; and

• Performance metrics, such as the number of stream miles or acres of riparian habitat restored or protected by the project, the number of fish passage barriers removed, and the aquatic species benefitted by the project.

II. Data

OMB Control Number: 1018-XXXX. This is a new collection.

Title: National Fish Habitat Action Plan Project Funding.

Service Form Number: None.

Type of Request: Request for a new OMB Control Number.

Description of Respondents: Fish Habitat Partnerships recognized by the National Fish Habitat Board; individuals; businesses and organizations; and State, local, and tribal governments.

Respondent's Obligation: Required to obtain or retain a benefit.

Frequency of Collection: Annually or on occasion.

Activity | Number of respondents | Number of responses | Completion time per response (hours) | Total annual burden hours
Justification for Stable Operational Support | 18 | 18 | 5 | 90
Accomplishments Report and Work Plan | 18 | 18 | 20 | 360
Application | 100 | 100 | 20 | 2,000
Financial and Performance Reports | 100 | 100 | 20 | 2,000
TOTALS | 236 | 236 |  | 4,450

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: January 28, 2014.
Tina A. Campbell,
Chief, Division of Policy and Directives Management, U.S. Fish and Wildlife Service.

[FR Doc. 2014-02127 Filed 1-31-14; 8:45 am]

BILLING CODE 4310-55-P